ENVIRONMENTAL PROTECTION AGENCY

[EPA-HQ-OPP-2017-0222; FRL-9662-00]

CACI/Emergent and Arctic Slope Mission Services, LLC; Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be transferred to CACI/Emergent and its subcontractor, Arctic Slope Mission Services, LLC, in accordance with the CBI regulations. CACI/Emergent and its subcontractor, Arctic Slope Mission Services, LLC, have been awarded a contract to perform work for OPP, and access to this information will enable CACI/Emergent and its subcontractor, Arctic Slope Mission Services, LLC, to fulfill the obligations of the contract.

DATES: CACI/Emergent and its subcontractor, Arctic Slope Mission Services, LLC, will be given access to this information on or before July 11, 2017.

FOR FURTHER INFORMATION CONTACT: Mario Steadman, Information Technology and Resources Management Division (7502P), Office of Pesticide Programs, Environmental Protection Agency, 1200 Pennsylvania Ave. NW., Washington, DC 20460-0001; telephone number: 703 305-8338; email address: steadman.mario@epa.gov.

SUPPLEMENTARY INFORMATION:

I. General Information

A. Does this action apply to me?

This action applies to the public in general. As such, the Agency has not attempted to describe all the specific entities that may be affected by this action.

B. How can I get copies of this document and other related information?

The docket for this action, identified by docket identification (ID) number EPA-HQ-OPP-2017-0222, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Contractor Requirements

Under Contract No. EP-W-17-011, CACI/Emergent and its subcontractor, Arctic Slope Mission Services, LLC, will provide program management support, including, but not limited to: Development and updating of Agency tools used for managing and locating materials, automating and streamlining work flow processes, tracking of performance and other related efforts. This plan shall meet Agency requirements and initiatives as well as other requirements specified herein. The Contractor shall be required to assess and provide a report on current tracking, information, and records management systems being utilized by the Anti-Microbial Division (AD). This task will be requested of the Contractor as directed by the TOCOR/ATOCOR when workload increases or changes (e.g., moving from paper-based to computer-automated recordkeeping and processes), and as more sophisticated records management systems emerge. Prior to conducting such an assessment, the TOCOR/ATOCOR must approve the specific assessment execution steps proposed by the Contractor. This assessment should aim at identifying inefficiencies and obstacles impacting AD's systems. Once the assessment has been conducted, the Contractor shall provide an Assessment Report. This Report shall describe in detail the process being assessed, identify shortcomings of the AD process or system assessed, and provide specific recommendations including an action plan for addressing these “shortcomings.” The Contractor shall assist in the development of records management systems and maintenance of existing systems with software such as Microsoft Access and Excel to improve reevaluation records management processes as specified by the TOCOR/ATOCOR.

OPP has determined that access by CACI/Emergent and its subcontractor, Arctic Slope Mission Services, LLC, to information on all pesticide chemicals is necessary for the performance of this contract.

Some of this information may be entitled to confidential treatment. The information has been submitted to EPA under FIFRA sections 3, 4, 6, and 7 and under FFDCA sections 408 and 409.

In accordance with the requirements of 40 CFR 2.307(h)(2), the contract with CACI/Emergent and its subcontractor, Arctic Slope Mission Services, LLC, prohibits use of the information for any purpose not specified in the contract; prohibits disclosure of the information to a third party without prior written approval from the Agency; and requires that each official and employee of the contractor sign an agreement to protect the information from unauthorized release and to handle it in accordance with the FIFRA Information Security Manual. In addition, CACI/Emergent and its subcontractor, Arctic Slope Mission Services, LLC, are required to submit for EPA approval a security plan under which any CBI will be secured and protected against unauthorized release or compromise. No information will be provided to CACI/Emergent and its subcontractor, Arctic Slope Mission Services, LLC, until the requirements in this document have been fully satisfied. Records of information provided to CACI/Emergent and its subcontractor, Arctic Slope Mission Services, LLC, will be maintained by EPA Project Officers for this contract. All information supplied to CACI/Emergent and its subcontractor, Arctic Slope Mission Services, LLC, by EPA for use in connection with this contract will be returned to EPA when CACI/Emergent and its subcontractor, Arctic Slope Mission Services, LLC, have completed their work.

Authority: 7 U.S.C. 136 et seq.; 21 U.S.C. 301 et seq.

Dated: May 1, 2017.
Delores Barber,
Director, Information Technology and Resources Management Division, Office of Pesticide Programs.

[FR Doc. 2017-14201 Filed 7-5-17; 8:45 am]

BILLING CODE 6560-50-P